DEPARTMENT OF DEFENSE

Department of the Army

Corps of Engineers

Intent To Modify a Draft Environmental Impact Statement for the Lake Okeechobee Watershed Project

AGENCY: Department of the Army, U.S. Army Corps of Engineers, DoD.

ACTION: Notice of intent; modification.

SUMMARY: The U.S. Army Corps of Engineers (Corps), Jacksonville District, previously published a Notice of Intent (NOI) to prepare an integrated project Implementation Report/Draft Environmental Impact Statement (PIR/DEIS) for the Lake Okeechobee Watershed Project on August 5, 2002 (67 FR 50657). Following publication of the NOI, a fifth separable element, modification of the Lake Istokpoga Regulation Schedule, was added to the Lake Okeechobee Watershed Project. The four initially described elements, as well as the project's collaborator, intent, authorization, plan formulation process, issues, and PIR/EIS publication date remain as described in the original NOI.

FOR FURTHER INFORMATION CONTACT: Mr. Ernest Clarke, U.S. Army Corps of Engineers, Planning Division, Environmental Branch, P.O. Box 4970, Jacksonville, FL 32232-0019, by e-mail ernest.clarke@saj02.usace.army.mil, or by telephone at 904-232-1199.

SUPPLEMENTARY INFORMATION: a. Study Area: The study area remains as originally described, except that it will be expanded to include portions of Highlands County. Lake Istokpoga is located within Highlands County, and drains into the Kissimmee River and Lake Okeechobee. Lake Istokpoga levels are regulated through water control devices, and in turn affect the water and nutrient budget of Lake Okeechobee.

b. Project Scope: In addition to four elements described in the original NOI, the Lake Okeechobee Watershed Project will now include a study of potential structural and operational changes to the water management system for the purpose of improving ecologic conditions in Lake Istokpoga. This element involves the development of a plan to address water resource problems in the Lake Istokpoga Basin, balancing environmental needs, flood control and water supply.

c. Scoping: Public workshops will continue to be used to invite comments on alternatives and issues from Federal, State, and local agencies, affected Indian tribes, and other interested private organizations and individuals. While no public workshop is currently scheduled, the exact location, dates, and times of future meetings will be announced in public notices and local newspapers and on the Everglades Restoration Web site at www.evergladesplan.org.

Dated: September 3, 2003.
James C. Duck,
Chief, Planning Division.

[FR Doc. 03-23732 Filed 9-16-03; 8:45 am]

BILLING CODE 3710-AJ-M